DEPARTMENT OF COMMERCE

National Oceanic and Atmospheric Administration

[RIN 0648-XA472]

Marine Mammals; Notice of Intent To Prepare an Environmental Impact Statement for the Atlantic Large Whale Take Reduction Plan

AGENCY: National Marine Fisheries Service (NMFS), National Oceanic and Atmospheric Administration (NOAA), Commerce.

ACTION: Notice of intent (NOI) to prepare an Environmental Impact Statement (EIS); notice of public scoping meetings; request for comments.

SUMMARY: NMFS announces its intention to amend the Atlantic Large Whale Take Reduction Plan (ALWTRP). An Environmental Impact Statement (EIS) will be prepared in accordance with the National Environmental Policy Act (NEPA), to analyze impacts to the environment of the management alternatives under consideration. The purpose of this action is to notify the public of upcoming scoping meetings to solicit public comments on ways to reduce the risk of serious injury or mortality of right, humpback, and finback whales as a result of entanglement in vertical lines associated with commercial trap/pot and gillnet fisheries off the U.S. East Coast. NMFS requests comments on management options for this action. These options will form the basis of the alternatives that will later be analyzed through the EIS process.

DATES: Written comments must be postmarked or transmitted via facsimile (fax) at the appropriate address or number (see ADDRESSES section) no later than 5 p.m. Eastern Standard Time on September 12, 2011.

The public scoping meetings will be held in July and August 2011. For specific dates, times, and locations see SUPPLEMENTARY INFORMATION section.

ADDRESSES: You may submit comments by any of the following methods:

○ Fax: (978) 281-9394.

○ Mail: Paper, disk, or CD-ROM comments should be sent to Mary Colligan, Assistant Regional Administrator for Protected Resources, National Marine Fisheries Service, 55 Great Republic Drive, Gloucester, MA 01930. Mark the outside of the envelope, “Comments on the ALWTRP Scoping.”

○ E-mail: ALWTRPScoping.Comments@noaa.gov.

Copies of the background documents provided to the Atlantic Large Whale Take Reduction Team (ALWTRT) in advance of the November 2010 and April 2011 ALWTRT meeting and general information on the ALWTRP can be obtained from the ALWTRP Web site at: http://www.nero.nmfs.gov/whaletrp. Copies of the most recent marine mammal stock assessment reports may be obtained by writing to Gordan Waring, NMFS, 166 Water St., Woods Hole, MA 02543 or can be downloaded from the Internet at http://www.nmfs.noaa.gov/pr/sars/. A document that summarizes major issues, legal requirements, and identifies potential management options will also be posted on the ALWTRP Web site on or about July 1, 2011, and made available to the public at scoping meetings. The above documents can also be obtained by contacting Kate Swails, Kate.Swails@noaa.gov or (978) 282-8481.

FOR FURTHER INFORMATION CONTACT: Kate Swails, NMFS, Northeast Region, 978-282-8481; Barb Zoodsma, NMFS, Southeast Region, 904-321-2806; or Kristy Long, NMFS, Office of Protected Resources, 301-713-2322.

SUPPLEMENTARY INFORMATION:

Background

Large whale entanglements and entanglements resulting in serious injuries and mortalities are still occurring; therefore, NMFS believes modifications to the ALWTRP are needed to meet the goals of the Marine Mammal Protection Act (MMPA). Under the MMPA, NMFS is required to reduce the incidental mortality and serious injury to three strategic large whale stocks—the Western Stock of the North Atlantic right whales (Eubalaena glacialis), the Gulf of Maine stock of humpback whales (Megaptera novaeangliea), and the Western North Atlantic stock of fin whales (Balaenoptera physalus)—incidentally taken in commercial fisheries to below the Potential Biological Removal (PBR) level for each stock.

ALWTRT

At the 2003 ALWTRT meeting, the ALWTRT agreed to manage entanglement risk by first reducing the risk associated with groundlines and then reducing the risk associated with vertical lines in commercial trap/pot and gillnet gear. Risk reduction of groundline was addressed in October 2007 with the implementation of the sinking groundline requirement for all fisheries throughout the entire East coast (72 FR 57104, October 5, 2007).

At the 2009 ALWTRT meeting, the Team agreed on a schedule to develop a management approach to reduce the risk of serious injury and mortality due to vertical line. As a result of this schedule NMFS committed to publishing a final rule to address vertical line entanglement by 2014. The approach for the vertical line rule will focus on reducing the risk of vertical line entanglements in high impact areas versus a wide-broad scale management scheme. Using fishing gear survey data and whale sightings per unit effort (SPUE) a model was developed to determine the co-occurrence of fishing gear density and whale density.

The ALWTRT Northeast Subgroup met in November 2010 and the Mid-Atlantic/Southeast Subgroup met in April 2011 to review the co-occurrence model and consider its implications for an overall management strategy to address vertical line entanglements.

The Team agreed NMFS should use the model to consider and develop possible options to address fishery interactions with large whales by reducing the potential for entanglements, minimizing adverse effects if entanglements occur, and mitigating the effects of any unavoidable entanglements.

Management Options

This notice provides an opportunity for public involvement. NMFS requests comments on management options for this action. Additionally, NMFS is seeking information on the range of impacts that should be considered for the various options. Background documents provided to the ALWTRT and general public in advance of the November 2010 and April 2011 meetings are available for review (see ADDRESSES section). A scoping document summarizing major issues, legal requirements, and identifying potential management options will be made available prior to the scoping meetings (see ADDRESSES section). Comments received on this action will assist NMFS in determining the alternatives for rulemaking to reduce interactions of right, humpback and fin whales with commercial fisheries as a result of vertical lines.

The ALWTRP (50 CFR 229.32) is a multi-faceted plan that includes area closures, gear modification requirements in areas open to fixed gear fishing, gear research to develop new modifications to current practices and/or fishing techniques, a right whale Sighting Advisory System, and a disentanglement program to free whales incidentally caught in fishing gear. Within the comment period established by this notice (see DATES section), NMFS will hold 15 public scoping meetings to gather public comment on the development and implementation of new management measures for the ALWTRP.

Schedule of Public Scoping Meetings

The dates, times, and locations of the meetings are scheduled as follows:

1. Monday, July 11, 2011—East Machias, ME 6-9 p.m.

Washington Academy, 66 High Street, East Machias, ME 04630.

2. Tuesday, July 12, 2011—Ellsworth, ME 6-9 p.m.

Ellsworth City Hall (Auditorium), 1 City Hall Plaza, Ellsworth, ME 04605.

3. Wednesday, July 13, 2011—Rockland, ME 6-9 p.m.

Rockland District High School (Auditorium), 400 Broadway, Rockland, ME 04841.

4. Thursday, July 14, 2011—Portland, ME 6-9 p.m.

Portland City Hall (State of Maine Room), 389 Congress St., Portland, ME 04101.

5. Monday, July 18, 2011—Providence, RI 5:30-8:30 p.m.

Providence Public Library, 150 Empire St., Providence, RI 02903.

6. Tuesday, July 19, 2011—Plymouth, MA 6-9 p.m.

Plymouth Public Library (Fehlow Room), 132 South St., Plymouth, MA 02360.

7. Wednesday, July 20, 2011—Chatham, MA 6-9 p.m.

Chatham Community Center (Large Meeting Room), 702 Main St., Chatham, MA 02633.

8. Thursday, July 21, 2011—Gloucester, MA 6-9 p.m.

NOAA Northeast Regional Office (Hearing Room A&B), 55 Great Republic Dr., Gloucester, MA 01930.

9. Tuesday, July 26, 2011—Morehead City, NC 6-9 p.m.

NC Division of Marine Fisheries Central District Office, 5285 Highway 70 West, Morehead City, NC 28557.

10. Wednesday, July 27, 2011—Virginia Beach, VA 6-9 p.m.

Meyera E. Obendorf Central Library (Folio Room), 4100 Virginia Beach Blvd., Virginia Beach, VA 23452.

11. Thursday, July 28, 2011—Ocean View DE 6-9 p.m.

Ocean View Town Hall (John West Park), 32 West Ave., Ocean View, DE 19970.

12. Friday, July 29, 2011—Manahawkin, NJ 6-9 p.m.

Stafford Township (Council Meeting Room), 260 E. Bay Ave.. Manahawkin, NJ 08050.

13. Monday August 22, 2011—Cape Canaveral, FL 5-8 p.m.

Cape Canaveral Public Library, 201 Polk Avenue, Cape Canaveral, FL 32920.

14. Tuesday August 23, 2011—Jacksonville, FL 6-9 p.m.

Jacksonville Port Authority (JAXPORT), Board Room, 2831 Talleyrand Avenue, Jacksonville, FL 32206.

15. Wednesday August 24, 2011—Garden City, GA 6-9 p.m.

Garden City City Hall, 100 Central Avenue (at intersection of Dean Forest Rd. and Constantine Rd.), Garden City, GA 31405.

Special Accommodations

These meetings are physically accessible to people with disabilities. Requests for sign language interpretation or other auxiliary aids should be directed to Kate Swails (978) 282-8481.

Authority: 16 U.S.C. 1361 et seq.

Dated: June 8, 2011.
Helen M. Golde,
Deputy Director, Office of Protected Resources, National Marine Fisheries Service.

[FR Doc. 2011-14743 Filed 6-13-11; 8:45 am]

BILLING CODE 3510-22-P